DEPARTMENT OF JUSTICE

[OMB Number 1123-0NEW]

Agency Information Collection Activities; Proposed eCollection eComments Requested; New Collection; Corporate Whistleblower Awards Pilot Program Online Intake Portal

AGENCY: Criminal Division, Department of Justice.

ACTION: 60-Day notice.

SUMMARY: The Criminal Division, Department of Justice (DOJ), will be submitting the following information collection request to the Office of Management and Budget (OMB) for review and approval in accordance with the Paperwork Reduction Act of 1995.

DATES: Comments are encouraged and will be accepted for 60 days until May 4, 2026.

FOR FURTHER INFORMATION CONTACT: If you have additional comments, especially on the estimated public burden or associated response time, suggestions, or need a copy of the proposed information collection instrument with instructions or additional information, please contact Patrick Gushue, 1400 New York Avenue NW, Washington, DC 20005, phone (202) 305-0801 or email patrick.gushue@usdoj.gov.

SUPPLEMENTARY INFORMATION: Written comments and suggestions from the public and affected agencies concerning the proposed collection of information are encouraged. Your comments should address one or more of the following four points:

—Evaluate whether the proposed collection of information is necessary for the proper performance of the functions of the Criminal Division, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New collection.

2. The Title of the Form/Collection: Corporate Whistleblower Awards Pilot Program Online Intake Portal.

3. The agency form number, if any, and the applicable component of the Department sponsoring the collection: The Department of Justice's Criminal Division is sponsoring this collection. There is no form number. Affected public who will be asked or required to respond, as well as a brief abstract: This collection is entirely voluntary and is only open to individuals, not households. No person will be required to respond.

This collection will assist the Criminal Division in achieving mission-critical law enforcement priorities by collecting voluntary information regarding potential criminal activity. The collection will make the Division faster and more efficient when: (1) responding to tips regarding potential criminal activity submitted by members of the public; (2) issuing monetary awards to individuals whose information has assisted in the investigation and prosecution of such activity; and (3) answering general inquiries from the public regarding the Corporate Whistleblower Awards Pilot Program.

4. Obligation to Respond: This submission is entirely voluntary. There is no obligation to respond.

5. Total Estimated Number of Respondents: The Corporate Whistleblower Awards Pilot Program officially began in August 2024. Since then, it has generally received approximately 30-60 individual submissions a week (totaling well over 1,000 unique submissions as of December 12, 2025). According to records maintained by CWA Program staff, these submissions have come from over 1,000 individual respondents (some respondents make multiple submissions or send material to add to a previously-filed unique submission). The Division anticipates that the number of respondents will remain approximately the same each year after the collection is published, although the collection will accelerate the Division's ability to respond to these tips in a timely and efficient way.

6. Estimated Time per Respondent: Depending on the size of the submission, a submitter's reason for completing the collection, and the level of detail a submitter voluntarily chooses to provide, the Division estimates that completing the collection will take anywhere from five to forty-five minutes. This does not include the time that submitters may voluntarily spend preparing materials to include in the submission.

7. Frequency: Individuals may make as many submissions as they choose, as frequently as they choose.

8. Total Estimated Annual Time Burden: As noted above, it may take anywhere from five to forty-five minutes to complete the collection on an entirely voluntary basis. This is not obligatory in any way, and there is no requirement to update it. Annual time commitments from members of the public will depend entirely on how many submissions each member of the public chooses to make in one year.

9. Total Estimated Annual Other Costs Burden: Limited costs associated with hosting the online form. Program costs have already been expended to provide for staff time reviewing and processing this information. This collection will make staff more efficient.

If additional information is required contact: Darwin Arceo, Department Clearance Officer, United States Department of Justice, Enterprise Portfolio Management, Two Constitution Square, 145 N Street NE, 4W-218, Washington, DC.

Dated: March 2, 2026.
Darwin Arceo,
Department Clearance Officer for PRA, U.S. Department of Justice.

[FR Doc. 2026-04300 Filed 3-3-26; 8:45 am]

BILLING CODE 4410-14-P